FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of General Counsel at (202)-523-5740 or GeneralCounsel@fmc.gov.

Agreement No.: 012290-002.

Agreement Name: Crowley/King Ocean Space Charter and Sailing Agreement—Northern Zone.

Parties: Crowley Latin America Services, LLC; and King Ocean Services Limited, Inc.

Filing Party: Wayne Rohde, Cozen O'Connor.

Synopsis: The Amendment revises the amount of space being chartered, and updates the address of King Ocean.

Proposed Effective Date: 9/14/2025.

Location: https://www2.fmc.gov/FMC.Agreements.Web/Public/AgreementHistory/148.

Dated: August 1, 2025.
Jennifer Everling,
Assistant Secretary.

[FR Doc. 2025-14819 Filed 8-4-25; 8:45 am]

BILLING CODE 6730-02-P